DEPARTMENT OF COMMERCE

National Oceanic and Atmospheric Administration

[I.D. 020101B]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Groundfish Committee, Groundfish Advisory Panel and Social Sciences Advisory Committee(SSAC) in February, 2001 to consider actions affecting New England fisheries in the exclusive economic zone (EEZ). Recommendations from these groups will be brought to the full Council for formal consideration and action, if appropriate.

DATES: The meetings will held between Thursday, February 22 and Wednesday, February 28, 2001. See SUPPLEMENTARY INFORMATION for specific dates and times.

ADDRESSES: The meetings will be held in Peabody and Newburyport, MA. See SUPPLEMENTARY INFORMATION for specific locations.

FURTHER INFORMATION CONTACT: Paul J. Howard, Executive Director, New England Fishery Management Council; (978)465-0492.

SUPPLEMENTARY INFORMATION:

Meeting Dates and Agendas

Thursday, February 22, 2001, 9:30 a.m.—Groundfish Advisory Panel Meeting

Location: Holiday Inn, One Newbury Street, Route 1, Peabody, MA 01960; telephone: (978) 535-4600.

The Groundfish Advisory Panel will review the proposed management alternatives for Amendment 13 to the Northeast Multispecies Plan. These alternatives have been developed by the Groundfish Plan Development Team and the Groundfish Oversight Committee during the past year. The Panel will develop its recommendations on the alternatives for further consideration by the Groundfish Oversight Committee. They will review the biological objectives for the amendment and will comment on those objectives. The Advisory Panel will develop recommendations for an observer program for the multispecies fishery, including funding sources. They will also identify issues that it believes may need further attention by the Committee, and may develop suggested alternatives to the management measures under development.

Friday, February 23, 2001, 10:00 a.m.—Social Sciences Advisory Committee Meeting

Location: Council Office, 50 Water Street, Newburyport, MA 01950; telephone: (978) 465-0492.

The Committee will review information collected from public meetings about the social and community impacts of Amendment 5, Amendment 7 and subsequent framework adjustments to the Northeast Multispecies Fishery Management Plan (Multispecies FMP). The Committee also will review economic information developed by the Council staff about the impacts of these measures. The information about the social, economic, and community impacts will be used in the development of Amendment 13 to the Multispecies FMP. The Committee also will discuss the organization of workshops for improving social and economic analyses.

Tuesday, February 27, 2001, at 9:30 a.m. and Wednesday, February 28, 2001, at 8:30 a.m.—Groundfish Oversight Committee Meeting

Location: Holiday Inn, One Newbury Street, Route 1, Peabody, MA 01960; telephone: (978) 535-4600.

The Groundfish Oversight Committee Panel will review the proposed management alternatives for Amendment 13 to the Northeast Multispecies Plan. These alternatives have been developed by the Groundfish Plan Development Team and the Groundfish Oversight Committee during the past year. The Committee will finalize its recommendation on management alternatives that will be presented to the Council for consideration at the March Council meeting. The Committee will identify issues that it believes may need further attention by the Plan Development Team, and may develop additional alternatives to the management measures under development. The Committee may discuss all elements of the alternatives, including the biological objectives. The Committee will also receive a report on the social impacts of management measures that have adopted since 1994, based on information collected by the Council staff in late 2000. Staff will also present an analysis of groundfish fishing vessel gross revenues since 1994. This information will be used by the Committee in choosing and evaluating management alternatives.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 2, 2001.
Richard W. Surdi,
Acting Director, Office of Sustainable Fisheries, National Marine Fisheries Service.

[FR Doc. 01-3279 Filed 2-7-01; 8:45 am]

BILLING CODE 3510-22-S